DEPARTMENT OF THE INTERIOR

Bureau of Reclamation

[A10-1999-6000-100-00-0-0-3, 3501000]

Availability of Final Environmental Impact Statement; Bunker Hill Groundwater Basin, Riverside-Corona Feeder Project; San Bernardino and Riverside Counties, CA

AGENCY: Bureau of Reclamation, Interior.

ACTION: Notice of availability.

SUMMARY: The Bureau of Reclamation and the Western Municipal Water District have completed a final Supplemental Environmental Impact Report/Environmental Impact Statement (SEIR/EIS) for the proposed Riverside-Corona Feeder Project.

DATES: The Bureau of Reclamation will not make a decision on the proposed project until at least 30 days after the Notice of Availability is published by the Environmental Protection Agency.

ADDRESSES: The final SEIR/EIS can be downloaded from our Web site: http://www.usbr.gov/lc/socal/envdocs.html. Printed copies are available for public review and inspection at the following locations:

• Bureau of Reclamation, Lower Colorado Regional Office, 500 Fir Street Boulder City, Nevada 89005.

• Bureau of Reclamation, Southern California Area Office, 27708 Jefferson Avenue Suite 202, Temecula, California 92590.

• Western Municipal Water District, 14205 Meridian Parkway, Riverside, California, 92518.

FOR FURTHER INFORMATION CONTACT: Ms. Amy Witherall, Project Manager, SCAO-7300, Bureau of Reclamation, Southern California Area Office, 27708 Jefferson Avenue Suite 202, Temecula, CA 92590; telephone: (951) 695-5310; facsimile: (951) 695-5319; or email: awitherall@usbr.gov.

SUPPLEMENTARY INFORMATION: The Federal action will provide funds for a proposed aquifer storage and recovery project, including new groundwater wells and a 28-mile water pipeline system with pump stations and a reservoir storage tank. The project is intended to improve the reliability of Western's water supply through managed storage, extraction and distribution of local and imported water supplies, using available capacity in the Bunker Hill Groundwater Basin and the Chino Basin.

We issued a Notice of Intent on February 24, 2010 (75 FR 8395) and published a Notice of Availability for the draft SEIR/EIS on January 20, 2011 (76 FR 3655). The Environmental Protection Agency Notice of Availability was published on January 28, 2011 (76 FR 5156). The Western Municipal Water District filed a Notice of Determination on February 16, 2012, in accordance with the California Environmental Quality Act.

Dated: June 4, 2013.
Terrance J. Fulp,
Regional Director, Lower Colorado Region.

[FR Doc. 2013-13937 Filed 6-11-13; 8:45 am]

BILLING CODE 4310-MN-P